DEPARTMENT OF COMMERCE

National Oceanic and Atmospheric Administration

[I.D. 100200A]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Groundfish Committee, Monkfish Advisory Panel and Research Steering Committee in October 2000, to consider actions affecting New England fisheries in the exclusive economic zone (EEZ).

DATES: The meetings will be held between Tuesday, October 24, 2000, and Thursday, October 26, 2000. See SUPPLEMENTARY INFORMATION for specific dates and times.

ADDRESSES: The meetings will be held in Danvers, MA; Wakefield, MA; and Warwick, RI. See SUPPLEMENTARY INFORMATION for specific locations.

Council address: New England Fishery Management Council, 50 Water Street, Mill 2, Newburyport, MA 01950: (978) 465-0492.

FOR FURTHER INFORMATION CONTACT: Paul J. Howard, Executive Director, New England Fishery Management Council (978)465-0492.

SUPPLEMENTARY INFORMATION:

Meeting Dates, Locations, and Agendas

Tuesday, October 24, 2000, 9:30 a.m. and Wednesday, October 25, 2000, 8:30 a.m.—Groundfish Oversight Committee Meeting

Location: Sheraton Ferncroft, 50 Ferncroft Road, Danvers, MA 01923; telephone: (978) 777-2500.

The Groundfish Oversight Committee will continue its development of management alternatives for Amendment 13 to the Northeast Multispecies Fishery Management Plan. The Committee will consider comments from it’s Advisory Panel on the area management and sector allocation proposals and may make changes to those proposals based on the comments received. They will finalize recommendations for rebuilding plans for overfished stocks, measures to address capacity in the groundfish fishery, and recommendations for closed areas. In addition, the Committee will refine its proposals for a revised status quo, area management, and sector allocation alternatives. They will review access by other fisheries or gears to closed areas and may develop recommendations for changes to those vessels and gears that are currently allowed access to closed areas. They will also develop priorities for cooperative research proposals that will be forwarded to the Research Steering Committee. The Committee will meet in a closed session to review advisory panel applications.

Thursday, October 26, 2000, 9:30 a.m.—Monkfish Advisory Panel Meeting

Location: Radisson Airport Hotel, 2081 Post Road, Warwick, RI 02886; telephone: (401)739-3000.

The Panel will discuss monkfish trip limit options to address perceived inequities across fleet sectors and develop recommendations to the Monkfish Committee. It will also develop a statement of purpose and a range of alternatives for monkfish spawning area/time management, and will discuss possible options for bycatch control and minimizing discards of monkfish in small mesh fisheries.

Thursday, October 26, 2000, 9:30 a.m.—Research Steering Committee Meeting

Location: Sheraton Colonial, One Audubon Road, Wakefield, MA 01880; telephone: (781) 245-9300.

The Research Committee will discuss priorities for funding regional research projects in 2001.

Recommendations from these groups will be brought to the full Council for formal consideration and action, if appropriate. Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES) at least five days prior to the meeting dates.

Dated: October 2, 2000.
Richard W. Surdi,
Acting Director, Office of Sustainable Fisheries, National Marine Fisheries Service.

[FR Doc. 00-25648 Filed 10-4-00; 8:45 am]

BILLING CODE: 3510-22 -S